DEPARTMENT OF DEFENSE

Defense Acquisition Regulations System

48 CFR Parts 209, 217, and 224

[Docket DARS-2023-0001]

Defense Federal Acquisition Regulation Supplement; Technical Amendments

AGENCY: Defense Acquisition Regulations System, Department of Defense (DoD).

ACTION: Final rule; technical amendment.

SUMMARY: DoD is amending the Defense Federal Acquisition Regulation Supplement (DFARS) in order to make needed editorial changes.

DATES: Effective June 9, 2023.

FOR FURTHER INFORMATION CONTACT: Ms. Jennifer D. Johnson, Defense Acquisition Regulations System, telephone 703-717-8226.

SUPPLEMENTARY INFORMATION: This final rule amends the DFARS to make needed editorial changes as follows:

• At 48 CFR part 209, updated the debarring and suspending official for the Defense Health Agency and reformatted the list at DFARS 209.403.

• At 48 CFR part 217, corrected a typographical error in the heading at subpart 217.1.

• At DFARS 224.103(b)(2), updated cross-references. Federal Acquisition Regulation 24.103(b)(2) requires agencies to make available regulations implementing the Privacy Act of 1974.

List of Subjects in 48 CFR Parts 209, 217, and 224

Government procurement.

Jennifer D. Johnson,
Editor/Publisher, Defense Acquisition Regulations System.

Therefore, 48 CFR parts 209, 217, and 224 are amended as follows:

PART 209—CONTRACTOR QUALIFICATIONS

1. The authority citation for part 209 continues to read as follows:

Authority: 41 U.S.C. 1303 and 48 CFR chapter 1.

2. Amend section 209.403 in the definition of “Debarring and suspending official” by revising paragraph (1) to read as follows:

209.403 Definitions.

Debarring and suspending official. (1) For DoD, the designees are—

(i) Army—Director, Soldier & Family Legal Services.

(ii) Navy/Marine Corps—The Assistant General Counsel (Acquisition Integrity).

(iii) Air Force—Deputy General Counsel (Contractor Responsibility).

(iv) Defense Advanced Research Projects Agency—The Director.

(v) Defense Health Agency—The Principal Deputy General Counsel.

(vi) Defense Information Systems Agency—The General Counsel.

(vii) Defense Intelligence Agency—The Senior Procurement Executive.

(viii) Defense Logistics Agency—The Special Assistant for Contracting Integrity.

(ix) Defense Threat Reduction Agency—The Director.

(x) Missile Defense Agency—The General Counsel.

(xi) National Geospatial-Intelligence Agency—The General Counsel.

(xii) National Security Agency—The Senior Acquisition Executive.

(xiii) United States Cyber Command—The Staff Judge Advocate.

(xiv) Overseas installations—as designated by the agency head.

* * * * *

PART 217—SPECIAL CONTRACTING METHODS

3. The authority citation for part 217 continues to read as follows:

Authority: 41 U.S.C. 1303 and 48 CFR chapter 1.

4. Revise the heading for subpart 217.1 to read as follows:

Subpart 217.1—Multiyear Contracting

PART 224—PROTECTION OF PRIVACY AND FREEDOM OF INFORMATION

5. The authority citation for part 224 is revised to read as follows:

Authority: 41 U.S.C. 1303 and 48 CFR chapter 1.

6. Revise section 224.103 to read as follows:

224.103 Procedures.

(b)(2) DoD rules and regulations are contained in DoDI 5400.11, DoD Privacy and Civil Liberties Programs; DoD 5400.11-R, Department of Defense Privacy Program; and DoDM 5400.11, DoD Privacy and Civil Liberties Programs: Breach Preparedness and Response Plan.

[FR Doc. 2023-12021 Filed 6-8-23; 8:45 am]

BILLING CODE 5001-06-P